DEPARTMENT OF ENERGY

[Docket Nos. 18-70-LNG, 22-167-LNG]

Change In Control: Mexico Pacific Limited LLC

AGENCY: Office of Fossil Energy and Carbon Management, Department of Energy.

ACTION: Notice of change in control.

SUMMARY: The Office of Fossil Energy and Carbon Management (FECM) of the Department of Energy (DOE) gives notice of receipt of a “Response to Request for Further Updates in Change in Control Proceeding and Fourth Supplement to March 5, 2025 CIC Notice” (Fourth Supplement) filed by Mexico Pacific Limited LLC (MXP) on November 24, 2025, among other developments. The Fourth Supplement is the latest supplement to MXP's Change in Control (CIC) Notice filed on March 6, 2025 (CIC Notice), as discussed below, and provides additional information concerning a change in MXP's upstream ownership. The CIC Notice and supplements, including the Fourth Supplement, were filed under the Natural Gas Act, and in accordance with DOE's regulations and DOE's Procedures for Changes in Control Affecting Applications and Authorizations to Import or Export Natural Gas (CIC Procedures).

DATES: Protests, motions to intervene, or notices of intervention, as applicable, and written comments are to be filed as detailed in the Public Comment Procedures section no later than 4:30 p.m., Eastern time, December 29, 2025.

ADDRESSES:

Electronic Filing by email (Strongly encouraged): fergas@hq.doe.gov.

Postal Mail, Hand Delivery, or Private Delivery Services (e.g., FedEx, UPS, etc.): U.S. Department of Energy (FE-34), Office of Regulation, Analysis, and Engagement, Office of Fossil Energy and Carbon Management, Forrestal Building, Room 3E-056, 1000 Independence Avenue SW, Washington, DC 20585.

Due to potential delays in DOE's receipt and processing of mail sent through the U.S. Postal Service, we encourage respondents to submit filings electronically to ensure timely receipt.

FOR FURTHER INFORMATION CONTACT: Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov.

Cassandra Bernstein, U.S. Department of Energy (GC-76), Office of the Assistant General Counsel for Energy Delivery and Resilience, Forrestal Building, Room 6D-033, 1000 Independence Avenue SW, Washington, DC 20585, (240) 780-1691, cassandra.bernstein@hq.doe.gov.

SUPPLEMENTARY INFORMATION: ¹

¹ For all documents filed as part of this CIC proceeding, please see Docket Nos. 18-70-LNG and 22-167-LNG.

This CIC proceeding commenced on March 6, 2025, when MXP filed the CIC Notice,² followed by a supplement (First Supplement) ³ on March 21, 2025. The CIC Notice references Mexico Pacific Holdings, L.P. (MXP Holdings)—the entity that owns MXP and is now known as Mexico Pacific Holdings, LLC, as described below.

² Mexico Pacific Limited LLC, Notice of Change in Control, Docket Nos. 18-70-LNG and 22-167-LNG (Mar. 6, 2025) [hereinafter CIC Notice]. Because DOE received the CIC Notice after the close of business on March 5, 2025, it was date-stamped and docketed by DOE on March 6, 2025. However, MXP references the CIC Notice as “submitted March 5, 2025” throughout its documents.

³ Mexico Pacific Limited LLC, Supplement Describing Changes in Equity Ownership that Preceded Changes in Control Described in CIC Notice Submitted March 5, 2025, Docket Nos. 18-70-LNG and 22-167-LNG (Mar. 21, 2025).

On May 7, 2025, DOE published notice of both the CIC Notice and the First Supplement in the Federal Register.⁴ In response to this notice, DOE received a pleading jointly filed by Public Citizen, Inc., Natural Resources Defense Council (NRDC), and Sierra Club, in which these organizations protested the CIC Notice and Supplement and, as to NRDC and Sierra Club, moved to intervene in the CIC proceeding.⁵

⁴ U.S. Dep't of Energy, Change in Control: Mexico Pacific Limited LLC; Notice of Change in Control, 90 FR 19288 (May 7, 2025).

⁵ Public Citizen, et al., Protest of Public Citizen, Inc., Natural Resources Defense Council and Sierra Club, and Intervention of Natural Resources Defense Council and Sierra Club, Docket Nos. 18-70-LNG and 22-167-LNG (May 22, 2025).

On May 30, 2025, in a “Second Supplement to CIC Notice Submitted March 5, 2025,” ⁶ MXP informed DOE that “multiple new investors are expected to be admitted to MXP Holdings.” ⁷

⁶ Mexico Pacific Limited LLC, Second Supplement to March 5, 2025 CIC Notice, Docket Nos. 18-70-LNG and 22-167-LNG (May 30, 2025).

⁷ Id. at 3.

On August 8, 2025, MXP submitted a “Third Supplement to March 5, 2025 CIC Notice” (Third Supplement) ⁸ in which it notified DOE of the following changes, effective as of July 9, 2025:

⁸ Mexico Pacific Limited LLC, Third Supplement to March 5, 2025 CIC Notice, Docket Nos. 18-70-LNG and 22-167-LNG (Aug. 8, 2025) [hereinafter Third Supp.].

(i) MXP Holdings converted its form of organization from a Delaware limited partnership (Mexico Pacific Holdings, L.P.) to a Delaware limited liability company named Mexico Pacific Holdings, LLC;

(ii) The then sole member and manager of MXP Holdings, Mexico Pacific Holdings GP, LLC (a Delaware limited liability company), with 70% economic interest in MXP Holdings, was renamed Windsor Cliff Sponsor, LLC (Windsor Cliff Sponsor); and

(iii) Three investors—two Florida limited liability companies and an individual—each acquired a 10% economic interest in MXP Holdings.⁹

⁹ Id. at 3. As Exhibit A to the Third Supplement, MXP provided a diagram depicting its ownership following the July 9, 2025 admission of new investors and related changes.

On October 29, 2025, DOE sent MXP a “Request for Information in Change of Control Proceeding” (Request for Information),¹⁰ in which DOE asked MXP to provide additional information regarding the identity of the three minority investors referenced in the Third Supplement.

¹⁰ Ltr. from Amy Sweeney, DOE/FECM, to James F. Bowe, Jr., Counsel for MXP, Docket Nos. 18-70-LNG and 22-167-LNG, re: Request for Information in Change of Control Proceeding (Oct. 29, 2025).

On November 24, 2025, MXP submitted the Fourth Supplement.¹¹ In the Fourth Supplement, MXP stated that it is responding to DOE's Request for Information and “provid[ing] a further supplement to MXP's March 5, 2025 CIC Notice.” ¹² Specifically, MXP stated that, since its submission of its Third Supplement, “one of the three owners of a ten percent (10%) economic interest in MXP Holdings has assigned that minority interest to an Ontario limited partnership.” ¹³ Thus, following the completion of the assignment of a 10% economic interest in MXP Holdings, the three minority investors in MXP Holdings, each holding a 10% economic interest, are now:

¹¹ Mexico Pacific Limited LLC, Response to Request for Further Updates in Change in Control Proceeding and Fourth Supplement to March 5, 2025 CIC Notice, Docket Nos. 18-70-LNG and 22-167-LNG (Nov. 24, 2025) [hereinafter Fourth Supp.].

¹² Id. at 2.

¹³ Id.

• LDM Strategic Holdings, LLC, a Florida limited liability company;

• Avila Blue, LLC, a Florida limited liability company; and

• Sonvapor LP, an Ontario, Canada, limited partnership.¹⁴

¹⁴ Id. Due to the foreign economic interests resulting from the Transaction, MXP's change in control may require the approval of the Committee on Foreign Investment in the United States (CFIUS). DOE expresses no opinion regarding the need for review by CFIUS. Additional information may be obtained at: https://home.treasury.gov/policy-issues/international/the-committee-on-foreign-investment-in-the-united-states-cfius.

MXP stated that there are no affiliations among these entities beyond their minority interest in MXP Holdings.

Additional details can be found in MXP's filings available on the DOE website at https://www.energy.gov/fecm/mexico-pacific-limited-llc-mpl-fe-dkt-no-18-70-lng (Docket No. 18-70-LNG) and https://www.energy.gov/fecm/articles/mexico-pacific-limited-llc-mpl-fecm-docket-no-22-167-lng (Docket No. 22-167-LNG).

DOE Evaluation

In accordance with DOE's CIC Procedures,¹⁵ DOE will review the CIC Notice, as supplemented through the Fourth Supplement, showing that MXP Holdings' ownership is now: (i) Windsor Cliff Sponsor holding 70% of the membership interest in MXP Holdings, and (ii) the three minority investors identified above each holding a 10% economic interest in MXP Holdings (30% total).¹⁶ MXP Holdings, in turn, continues to own 100% of MXP, the DOE authorization holder.¹⁷

¹⁵ U.S. Dep't of Energy, Procedures for Changes in Control Affecting Applications and Authorizations to Import or Export Natural Gas, 79 FR 65541 (Nov. 5, 2014) [hereinafter CIC Procedures].

¹⁶ See Fourth Supp. at 2.

¹⁷ See Third Supp. at 3 (stating that “MXP Holdings still controls MXP, the export authorization holder and applicant, and MXP Holdings is still controlled by its former sole member, now known as Windsor Cliff Sponsor”) and Appendix A.

Consistent with the CIC Procedures, this notice addresses MXP's existing authorization to export liquefied natural gas (LNG) to countries with which the United States has not entered into a free trade agreement (FTA) requiring national treatment for trade in natural gas and with which trade is not prohibited by United States law or policy (non-FTA countries), granted in DOE/FE Order No. 4312, as amended.¹⁸ If no interested person protests the change in control and DOE takes no action on its own motion, the proposed change in control will be deemed granted 30 days after publication in the Federal Register. If one or more protests are submitted, DOE will review any motions to intervene, protests, and answers, and will issue a determination as to whether the proposed change in control has been demonstrated to render the underlying authorizations inconsistent with the public interest.

¹⁸ MXP's CIC Notice and Supplements also apply to: (1) MXP's existing authorizations to export LNG to FTA countries in Docket Nos. 18-70-LNG and 22-167-LNG, and (2) MXP's pending application to export LNG to non-FTA countries in Docket No. 22-167-LNG. DOE will respond to those portions of the CIC Notice, as supplemented, separately pursuant to the CIC Procedures, 79 FR at 65542.

Public Comment Procedures

Interested persons will be provided 15 days from the date of publication of this notice in the Federal Register to move to intervene, protest, and answer CIC Notice, as supplemented through the Fourth Supplement.¹⁹ Protests, motions to intervene, notices of intervention, and written comments are invited in response to this notice only as to the change in control described in the CIC Notice, as supplemented through the Fourth Supplement. All protests, comments, motions to intervene, or notices of intervention must meet the requirements specified by DOE's regulations in 10 CFR part 590, including the service requirements.

¹⁹ Intervention, if granted, would constitute intervention only in the change in control portion of these proceedings, as described herein.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket Nos. 18-70-LNG, et al.” or “Mexico Pacific Limited LLC Change in Control” in the title line. Filings must be submitted in English to be considered.²⁰

²⁰ Executive Order 14224 of March 1, 2025, Designating English as the Official Language of the United States, 90 FR 11363 (Mar. 6, 2025).

For electronic submissions: Please include all related documents and attachments (e.g., exhibits) in the original email correspondence. Please do not include any active hyperlinks or password protection in any of the documents or attachments related to the filing. All electronic filings submitted to DOE must follow these guidelines to ensure that all documents are filed in a timely manner.

MXP's filings in this CIC proceeding, and any filed protests, motions to intervene, notices of intervention, and comments, will be available electronically on the DOE website at www.energy.gov/fecm/regulation.

Signed in Washington, DC, on December 9, 2025.
Amy Sweeney,
Director, Office of Regulation, Analysis, and Engagement, Office of Resource Sustainability.

[FR Doc. 2025-22638 Filed 12-11-25; 8:45 am]

BILLING CODE 6450-01-P